CHEMICAL SAFETY AND HAZARD INVESTIGATION BOARD

Public Hearing: Combustible Dust Hazards

AGENCY: U.S. Chemical Safety and Hazard Investigation Board (CSB).

ACTION: Notice announcing Sunshine Act public hearing and requesting public comment and participation.

SUMMARY: The CSB is planning to hold a public hearing to solicit public input on its investigation of combustible dust hazards. This notice provides information regarding the CSB investigation, a request for comments on specific issues raised by the investigation, and the date, time, location and format for the public hearing.

DATES: The Public Hearing will be held on Wednesday, June 22, 2005, beginning at 8:30 a.m. at the Horizon Ballroom, Ronald Reagan Building and International Trade Center, 1300 Pennsylvania Avenue, NW., Washington, DC. Meeting will end at 4:30 p.m.

Pre-registration: The event is open to the public and there is no fee for attendance. However, attendees are strongly encouraged to pre-register, to ensure adequate seating arrangements. Seating is limited to 90; those planning on attending are strongly urged to pre-register early. To pre-register, please e-mail your name and affiliation by June 10, 2005, to dust@csb.gov.

Written Comments: The public is encouraged to submit written comments. Individuals, organizations, businesses, or local, State or Federal government agencies may submit written comments on the questions to be addressed at the Public Hearing. Such comments must be filed on or before August 1, 2005. For further instructions on submitting comments, please see the “Form and Availability of Comments” section below.

Verbal Comments: The public is encouraged to present verbal comments at the Public Hearing. Those wishing to make verbal comments should pre-register by June 10th. To pre-register, send your name and a brief outline of your comments to the person listed in ADDRESSES. Verbal comments must be limited to 5 minutes.

ADDRESSES: Written comments and requests to provide oral comments at the Public Hearing should be submitted to: Ms. Angela S. Blair, P.E., U.S. Chemical Safety and Hazard Investigation Board, 2175 K Street, NW., Suite 400, Washington, DC 20037. Alternatively, they may be e-mailed to dust@csb.gov.

FOR FURTHER INFORMATION CONTACT: Angela Blair, Office of Investigations and Safety Programs, 202.261.3607 or e-mail at: dust@csb.gov. Detailed information on the hearing agenda and panelists will be posted soon at http://www.csb.gov.

SUPPLEMENTARY INFORMATION:

A. Introduction

B. Background

C. CSB Hazard Investigation

D. Investigation Objectives

E. Request for Comments

F. Form and Availability of Comments

G. Registration Information

H. Sunshine Act Notice

A. Introduction

In 2003, the CSB investigated three accidents involving combustible dust explosions. The CSB found that issues related to hazard awareness, regulatory oversight, and effectiveness of fire code enforcement were common to these three accidents. CSB's preliminary data indicate that a significant number of combustible dust fires and explosions have occurred in industry in the last twenty-five years. The data will be presented at the hearing. Additionally, individuals knowledgeable about dust explosion hazards will present information to the Board and respond to Board questions. Following these presentations there will be an opportunity for public comment.

B. Background

In 2003 the CSB investigated 3 combustible dust explosions. A total of 14 individuals were killed and 81 injured in these events. In January 2003, an explosion and fire at the West Pharmaceutical Services facility in Kinston, North Carolina resulted in the deaths of six workers and injuries to 38 others. CSB investigated this accident and concluded that the explosion was the result of the deflagration of polyethylene powder that had accumulated above a suspended ceiling in the processing area of the facility.

In February 2003, a combustible dust explosion occurred at the CTA Acoustics facility in Corbin, Kentucky, killing 7 workers and injuring 37. CSB found that the fuel for the explosion was phenolic resin used to produce insulation materials for the automotive industry. The explosion began near a curing oven, where routine cleaning lofted accumulated resin dust that was ignited by fire in an oven on which the doors were left open. Numerous secondary deflagrations caused damage and injuries throughout the facility.

In October 2003, one worker was killed and six others injured when an aluminum dust explosion occurred at Hayes Lemmerz International in Huntington, Indiana. The report of CSB's investigation into this accident is expected to be approved by the Board soon.

The occurrence of three fatal combustible dust explosions within one calendar year prompted the Board to commence a broader study of the extent, nature and prevention of combustible dust fire and explosion hazards.

C. CSB Hazard Investigation

The objectives of CSB's investigation include:

1. Determining the number and effects of combustible dust fires and explosions in the United States during the twenty-five-year period beginning in 1980. CSB is excluding the following types of incidents for the purposes of this study:

(a) Those occurring in grain-handling or other facilities that are currently regulated by OSHA's grain handling standard.

(b) Those occurring in coal mines or other facilities covered by MSHA regulations. Incidents involving coal dust at power generation plants and other facilities not covered by MSHA regulations are not excluded.

(c) Incidents occurring in non-manufacturing facilities such as hospitals, military installations and research institutes.

(d) Incidents involving transportation or transportation vehicles.

(e) Incidents occurring outside the United States or U.S. territories.

2. Evaluating the extent and effectiveness of efforts by state and local officials to prevent combustible dust fires and explosions.

3. Evaluating the effectiveness of existing hazard communication programs and regulations in making facility managers and workers aware of the fire and explosion hazards of combustible dusts.

4. Determining what additional state, federal or private sector activities may be necessary to prevent future combustible dust fires and explosions.

D. Request for Comments

CSB solicits written or verbal comments on the following issues. The public hearing will address a selection of these issues, pending level of public interest and available time.

1. The CSB is currently researching and cataloging combustible dust incidents that have occurred in the United States since 1980. This survey has identified nearly 200 combustible dust incidents involving approximately 100 fatalities and 600 injuries. The sources of data include: the Occupational Safety and Health Administration (OSHA) incident database; the Institute of Chemical Engineers (ICHEME) accident base; Lexis/Nexus; and the National Fire Protection Association (NFPA). The CSB will consult other data resources as the research continues.

a. Are there other sources of data on combustible dust incidents that may not have been captured in these databases?

b. Regarding any specific combustible dust incident(s) that you are aware of, were the causes of the incident(s) determined? If yes, what were they?

c. Are you aware of any materials or conditions that have contributed to the causation of major combustible dust incidents that may not have been identified in the technical literature or addressed in existing codes or guidelines?

2. A preliminary survey by the CSB has found that approximately 25% of identified incidents occur in the plastics, pharmaceuticals, paints and other industries addressed within the scope of NFPA 654 (Standard for the Prevention of Fire and Dust Explosions from the Manufacturing, Processing, and Handling of Combustible Particulate Solids), approximately 23% each in metal and wood industries, and 20% in the food (excluding grain handling) industry, with 10% involving coal dust (not including mines).

a. Should the CSB investigation examine only those industries within the scope of NFPA 654, or also address combustible dust hazards in metal, food, coal (other than mining) and wood industries?

b. To what extent do the problems described below (lack of awareness, poor enforcement of existing codes, etc.) exist in each of these industries?

c. Are there significant differences in the causes or the means of preventing explosions in industries handling combustible plastic, metal, wood, food, coal or other dusts?

3. Both the NFPA and the International Code Council (ICC) have developed codes that address combustible dust hazards.

a. What are the strengths and weaknesses of the NFPA and ICC standards for combustible dust?

b. Are changes necessary in any of these standards to better prevent combustible dust fires and explosions?

4. In two investigations, the CSB found that Material Safety Data Sheets (MSDSs) for materials that may form combustible dusts did not adequately communicate explosion hazards. In addition, many MSDSs do not communicate the potential hazards of materials that may generate combustible dust as a result or byproduct of processing.

a. Does OSHA's Hazard Communication Standard clearly address combustible dust hazards?

b. Should OSHA provide better guidance on how combustible dust hazards should be addressed under the Hazard Communication Standard?

c. How effective are current MSDSs in communicating combustible dust hazard warnings?

d. Are there examples of MSDSs that communicate these hazards better than others?

e. What can be done to improve the ability of MSDSs to communicate more effectively the hazards of combustible dusts and information on how to control those hazards?

f. Are there other written materials that more effectively communicate the hazards of combustible dusts to downstream users?

g. How effective is hazard labeling in communicating the hazards of combustible dusts?

5. Is additional research needed to resolve any technical issues or barriers, or issues around which no industry consensus has been reached in order to better control or prevent combustible dust explosions?

6. How do states address combustible dust hazards?

a. Do most states cover combustible dust hazard in some manner under their fire codes?

b. Do some states have occupational safety standards that address combustible dust hazards?

c. Are there examples of state occupational safety programs that have used the General Duty Clause to address combustible dust hazards?

d. Are there other examples that show how state governments have effectively addressed combustible dust hazards?

7. The CSB has found that the primary regulatory mechanism for controlling or eliminating combustible dust hazards is enforcement of fire codes by local fire code officials. CSB found that awareness of combustible dust hazards among local fire code officials in several states is generally low.

a. What are the barriers to enforcement of fire codes?

b. Is the establishment and enforcement of state building and fire codes effective in preventing combustible dust incidents?

c. Are there examples of states where there is effective enforcement of fire codes addressing combustible dust hazards?

8. CSB has found that some facilities that have experienced serious dust explosions had been inspected by their insurers, but that these inspections had not identified combustible dust hazards.

a. Do/should insurers play a role in preventing dust explosions?

b. Are there barriers inherent in the structure of the insurance industry that prevent the industry from effectively addressing dust hazards?

c. What can be done to encourage the insurance industry to address these hazards more effectively?

d. What training, inspection protocols and educational curricula are available to risk insurance inspectors?

9. CSB has found that awareness about combustible dust hazards throughout industry, including occupational health and safety professionals, is generally low.

a. What forms and methods of outreach, training, education guidelines or regulations have been successful in raising awareness of combustible dust hazards and explosion prevention among safety professionals, facility owners, managers and workers?

b. How can local and national safety or fire officials identify, target and reach at-risk industrial establishments with preventive information?

10. Are there model programs for managing combustible dust hazards in industry?

a. Are there examples of effective combustible dust safety training programs?

b. Are there examples of effective products (brochures, guidelines, alerts, training material, etc.) or campaigns that have successfully communicated preventive information about dust explosions to different affected sectors?

c. Is there a means to make these programs available across the affected industries?

11. Is there a role for the federal government in preventing combustible dust explosions?

a. Is the OSHA Grain Handling Facilities standard (CFR 1910.272) a model for a general industry combustible dust standard?

b. Do data exist to evaluate how the number and severity of combustible dust incidents in the grain industry have been affected by the OSHA Grain Handling Facilities standard?

c. Would an OSHA standard addressing combustible dust hazards be effective in preventing explosions?

d. Are there other federal government agencies that could play a role in issuing regulations or raising awareness?

F. Form and Availability of Comments

Comments should address any of the questions listed above. CSB will accept verbal comments at the public hearing. Verbal comments must be limited to 5 minutes. Those wishing to make verbal comments should pre-register by June 10th. To pre-register, send your name and a brief outline of your comments to the person listed in ADDRESSES.

The CSB requests that interested parties submit written comments on the above questions to facilitate greater understanding of the issues. Of particular interest are any studies, surveys, research, and empirical data. Comments should indicate the number(s) of the specific question(s) being answered, provide responses to questions in numerical order, and use a separate page for each question answered. Comments should be captioned “Combustible Dust Hazard Study—Comments,” and must be filed on or before August 1, 2005.

Parties sending written comments should submit an original and two copies of each document. To enable prompt review and public access, paper submissions should include a version on CD-ROM in PDF, ASCII, WordPerfect, or Microsoft Word format. Diskettes should be labeled with the name of the party, and the name and version of the word processing program used to create the document. Alternatively, comments may be e-mailed to dust@csb.gov. Written comments will be available for public inspection in accordance with the Freedom of Information Act, 5 U.S.C. 552, and CSB regulations. This notice and all comments will be posted on the CSB Web site: http://www.csb.gov.

G. Registration Information

The Public Hearing will be open to the public, and there is no fee for attendance. As discussed above, pre-registration is strongly encouraged, as seating may be limited. To pre-register, please e-mail your name and affiliation to dust@csb.gov by June 10, 2005. A detailed agenda and additional information on the hearing will be posted on the CSB's Web site at http://www.csb.gov.

H. Sunshine Act Notice

The United States Chemical Safety and Hazard Investigation Board announces that it will convene a Public Meeting beginning on Wednesday June 22, 2005, beginning at 8:30 a.m. at the Horizon Ballroom, Ronald Reagan Building and International Trade Center, 1300 Pennsylvania Avenue, NW., Washington, DC. Topics will include: CSB's investigation into combustible dust hazards. The meeting will be open to the public and will end at 4:30 p.m. Please notify CSB 10 business days prior to the public meeting if a translator or interpreter is needed. For more information, please contact: Dr. Daniel Horowitz, CSB Director of Congressional, Public, and Board Affairs at (202) 261-7613/(202) 441-6074 cell or Sandy Gilmour Communications, (202) 261-7614 or (202) 251-5496 cell, or visit our Web site at: http://www.csb.gov.

Christopher W. Warner,
General Counsel.

[FR Doc. 05-9238 Filed 5-4-05; 2:30 pm]

BILLING CODE 6350-01-P